DEPARTMENT OF LABOR

Office of the Secretary

Agency Information Collection Activities; Submission for OMB Review; Comment Request; Escape and Evacuation Plans

ACTION: Notice of availability; request for comments.

SUMMARY: The Department of Labor (DOL) is submitting this Mining Safety and Health Administration (MSHA)-sponsored information collection request (ICR) to the Office of Management and Budget (OMB) for review and approval in accordance with the Paperwork Reduction Act of 1995 (PRA). Public comments on the ICR are invited.

DATES: The OMB will consider all written comments that agency receives on or before December 7, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: Section 103(h) of the Federal Mine Safety and Health Act of 1977 (Mine Act) (30 U.S.C. 813(h)), authorizes MSHA to collect information necessary to carry out its duty in protecting the safety and health of miners. Further, section 101 (a) of the Mine Act (30 U.S.C. 811) authorizes the Secretary of Labor to develop, promulgate, and revise as may be appropriate, improved mandatory health or safety standards for the protection of life and prevention of injuries in coal or other mines. Title 30 of the Code of Federal Regulations (CFR) section 57.11053 requires the development of specific escape and evacuation plans that address the unique conditions of each underground metal and nonmetal mine. Section 57.11053 also requires that mine operators make revisions to the escape and evacuation plan for an underground metal and nonmetal mine as mining progresses. The plan must be available to representatives of MSHA and conspicuously posted at the mine at locations convenient to all persons on the surface and underground. The mine operator and MSHA are required to jointly review the plan at least once every 6 months. The following information is required with each escape and evacuation plan submission:

• Mine maps or diagrams showing directions of principal air flow, location of escape routes, and locations of existing telephones, primary fans, primary fan controls, fire doors, ventilation doors, and refuge chambers;

• Procedures to show how the miners will be notified of an emergency;

• An escape plan for each working area in the mine, including instructions showing how each working area should be evacuated;

• A firefighting plan;

• Procedures for surface personnel to follow in an emergency, including the notification of proper authorities and the preparation of rescue equipment and other equipment which may be used in rescue and recovery operations; and

• A statement of the availability of emergency communication and transportation facilities, emergency power, and ventilation, and the location of rescue personnel and equipment.

For additional substantive information about this ICR, see the related notice published in the Federal Register on June 17, 2020 (85 FR 36619).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Escape and Evacuation Plans.

OMB Control Number: 1219-0046.

Affected Public: Individuals and households.

Total Estimated Number of Respondents: 193.

Total Estimated Number of Responses: 386.

Total Estimated Annual Time Burden: 3,281 hours.

Total Estimated Annual Other Costs Burden: $1,930.

(Authority: 44 U.S.C. 3507(a)(1)(D))

Dated: November 2, 2020.
Anthony May,
Management and Program Analyst.

[FR Doc. 2020-24653 Filed 11-5-20; 8:45 am]

BILLING CODE 4510-43-P